DEPARTMENT OF TRANSPORTATION

Federal Aviation Administration

14 CFR Part 39

[Docket No. FAA-2020-0468; Product Identifier 2018-SW-046-AD; Amendment 39-21365; AD 2020-26-10]

RIN 2120-AA64

Airworthiness Directives; Leonardo S.p.a. Helicopters

AGENCY: Federal Aviation Administration (FAA), DOT.

ACTION: Final rule.

SUMMARY: The FAA is adopting a new airworthiness directive (AD) for all Leonardo S.p.a. (Leonardo) Model A119 and AW119 MKII helicopters. This AD requires revising the existing Rotorcraft Flight Manual (RFM) for your helicopter and installing a placard to prohibit intentional entry into autorotation. This AD would also allow replacement of an affected fuel control unit (FCU) as an optional terminating action for the RFM revision and placard installation. This AD was prompted by reports that certain FCUs may not have been calibrated to specification during overhaul. The actions of this AD are intended to address an unsafe condition on these products.

DATES: This AD is effective February 1, 2021.

The Director of the Federal Register approved the incorporation by reference of a certain document listed in this AD as of February 1, 2021.

ADDRESSES: For service information identified in this final rule, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this service information at the FAA, Office of the Regional Counsel, Southwest Region, 10101 Hillwood Pkwy., Room 6N-321, Fort Worth, TX 76177. It is also available on the internet at https://www.regulations.gov by searching for and locating Docket No. FAA-2020-0468.

Examining the AD Docket

You may examine the AD docket on the internet at https://www.regulations.gov by searching for and locating Docket No. FAA-2020-0468 or in person at Docket Operations between 9 a.m. and 5 p.m., Monday through Friday, except Federal holidays. The AD docket contains this AD, the European Aviation Safety Agency (now European Union Aviation Safety Agency) (EASA) AD, any service information that is incorporated by reference, any comments received, and other information. The street address for Docket Operations is U.S. Department of Transportation, Docket Operations, M-30, West Building Ground Floor, Room W12-140, 1200 New Jersey Avenue SE, Washington, DC 20590.

FOR FURTHER INFORMATION CONTACT: Mitch Soth, Flight Test Engineer, Southwest Section, Flight Test Branch, FAA, 10101 Hillwood Pkwy., Fort Worth, TX 76177; telephone 817-222-5110; email mitch.soth@faa.gov.

SUPPLEMENTARY INFORMATION:

Discussion

The FAA issued a notice of proposed rulemaking (NPRM) to amend 14 CFR part 39 by adding an AD that would apply to all Leonardo Model A119 and AW119 MKII helicopters. The NPRM published in the Federal Register on June 11, 2020 (85 FR 35602). The NPRM proposed to require revising the Limitations Section of the existing RFM for your helicopter and installing a placard to prohibit intentional entry into autorotation. The NPRM also proposed to allow replacing affected FCUs with non-affected FCUs as an optional terminating action for the RFM revision and placard installation. The proposed requirements were intended to address certain FCUs that may not have been calibrated to specification during overhaul, which can lead to N1 fluctuations, hung engine starts, and the inability to recover power during autorotation training, and possibly result in reduced control of the helicopter.

The NPRM was prompted by EASA AD 2018-0124, dated June 5, 2018, issued by EASA, which is the Technical Agent for the Member States of the European Union, to correct an unsafe condition for all Leonardo Model A119 and AW119 MKII helicopters. EASA advises that certain FCUs may not have been calibrated to specification during overhaul, and that this condition, if not corrected, can lead to N1 fluctuations, hung engine starts, and the inability to recover power during autorotation training, possibly resulting in reduced control of the helicopter. To address this unsafe condition, the EASA AD requires amendment of the applicable RFM and installation of a placard to prohibit intentional entry into autorotation. The EASA AD also allows removal of the RFM limitation and placard after replacement of an affected FCU.

Comments

The FAA gave the public the opportunity to participate in developing this final rule, but the FAA did not receive any comments on the NPRM or on the determination of the cost to the public.

FAA's Determination

These helicopters have been approved by EASA and are approved for operation in the United States. Pursuant to the FAA's bilateral agreement with the European Union, EASA has notified the FAA of the unsafe condition described in its AD. The FAA is issuing this AD after evaluating all of the information provided by EASA and determining the unsafe condition exists and is likely to exist or develop on other helicopters of the same type design and that air safety and the public interest require adopting the AD requirements as proposed.

Interim Action

The FAA considers this AD interim action. If final action is later identified, the FAA might consider further rulemaking.

Related Service Information Under 1 CFR Part 51

Leonardo has issued Leonardo Helicopters Emergency Alert Service Bulletin 119-089, Revision A, dated June 5, 2018. This service information describes procedures for revising the RFM and installing a placard in the cockpit.

This service information is reasonably available because the interested parties have access to it through their normal course of business or by the means identified in the ADDRESSES section.

Costs of Compliance

The FAA estimates that this AD affects 64 helicopters of U.S. Registry. Labor rates are estimated at $85 per work-hour. Based on these numbers, the FAA estimates that operators may incur the following costs in order to comply with this AD.

Revising the existing RFM for your helicopter and installing a placard takes about 2 work-hours and parts cost about $50, for an estimated cost of $220 per helicopter and $14,080 for the U.S. fleet.

The FAA has received no definitive data that would enable it to provide cost estimates for the optional terminating action specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-26-10 Leonardo S.p.a.: Amendment 39-21365; Docket No. FAA-2020-0468; Product Identifier 2018-SW-046-AD.

(a) Effective Date

This airworthiness directive (AD) becomes effective February 1, 2021.

(b) Affected ADs

None.

(c) Applicability

This AD applies to all Leonardo S.p.a. Model A119 and AW119 MKII helicopters, certificated in any category.

(d) Subject

Joint Aircraft Service Component (JASC) Code 1100, Placards and markings.

(e) Reason

This AD was prompted by reports that certain fuel control units (FCU) may not have been calibrated to specification during overhaul. The FAA is issuing this AD to address certain FCUs that may not have been calibrated to specification during overhaul. This condition, if not corrected, can lead to N1 fluctuations, hung engine starts, and the inability to recover power during autorotation training, possibly resulting in reduced control of the helicopter.

(f) Compliance

Comply with this AD within the compliance times specified, unless already done.

(g) Definitions

For the purposes of this AD, the definitions in paragraphs (g)(1) through (3) of this AD apply.

(1) An affected FCU is one that is identified in section 1.A., “Effectivity,” of Leonardo Helicopters Emergency Alert Service Bulletin 119-089, Revision A, dated June 5, 2018.

(2) Group 1 helicopters are those that have an affected FCU installed.

(3) Group 2 helicopters are those that do not have an affected FCU installed.

(h) Required Rotorcraft Flight Manual (RFM) Amendment

For Group 1 helicopters: Before further flight involving intentional autorotation, or within 30 days after the effective date of this AD, whichever occurs first, revise the Limitations Section of the existing RFM for your helicopter in accordance with paragraph 4. of the Accomplishment Instructions of Leonardo Helicopters Emergency Alert Service Bulletin 119-089, Revision A, dated June 5, 2018.

(i) Required Placard Installation

For Group 1 helicopters: Concurrently with the RFM amendment required by paragraph (h) of this AD, install a placard in the cockpit in accordance with paragraph 3. of the Accomplishment Instructions of Leonardo Helicopters Emergency Alert Service Bulletin 119-089, Revision A, dated June 5, 2018.

(j) Optional Terminating Action

For Group 1 helicopters: Replacing the affected FCU with a non-affected FCU allows the amendment to be removed from the existing RFM for your helicopter and the placard to be removed from the helicopter.

(k) Parts Installation Prohibition

(1) For Group 1 helicopters: Do not install an affected FCU on any helicopter after replacement with a non-affected FCU.

(2) For Group 2 helicopters: Do not install an affected FCU on any helicopter after the effective date of this AD.

(l) Alternative Methods of Compliance (AMOCs)

(1) The Manager, International Validation Branch, FAA, may approve AMOCs for this AD. Send your proposal to: Mitch Soth, Flight Test Engineer, Southwest Section, Flight Test Branch, FAA, 10101 Hillwood Pkwy., Fort Worth, TX 76177; telephone 817-222-5110; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(m) Related Information

The subject of this AD is addressed in European Aviation Safety Agency (now European Union Aviation Safety Agency) (EASA) AD 2018-0124, dated June 5, 2018. This EASA AD may be found in the AD docket on the internet at https://www.regulations.gov by searching for and locating Docket No. FAA-2020-0468.

(n) Material Incorporated by Reference

(1) The Director of the Federal Register approved the incorporation by reference of the service information listed in this paragraph under 5 U.S.C. 552(a) and 1 CFR part 51.

(2) You must use this service information as applicable to do the actions required by this AD, unless the AD specifies otherwise.

(i) Leonardo Helicopters Emergency Alert Service Bulletin 119-089, Revision A, dated June 5, 2018.

(ii) [Reserved]

(3) For service information identified in this AD, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this service information at the FAA, Office of the Regional Counsel, Southwest Region, 10101 Hillwood Pkwy., Room 6N-321, Fort Worth, TX 76177.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on December 9, 2020.
Lance T. Gant,
Director, Compliance & Airworthiness Division, Aircraft Certification Service.

[FR Doc. 2020-28383 Filed 12-23-20; 8:45 am]

BILLING CODE 4910-13-P